DEPARTMENT OF HEALTH AND HUMAN SERVICES

Food and Drug Administration

[Docket No. FDA-2011-N-0005]

Memorandum of Understanding Between the Food and Drug Administration and MEDSCAPE, LLC and WEBMD LLC

AGENCY: Food and Drug Administration, HHS.

ACTION: Notice.

SUMMARY: The Food and Drug Administration (FDA) is providing notice of a memorandum of understanding (MOU) between FDA and MEDSCAPE, LLC AND WEBMD LLC. The purpose of the MOU is to complement FDA's capacity to educate and communicate with health care professionals. It will also promote the timely dissemination to health care professionals of accurate information on public health and emerging safety issues and products safety recalls.

DATES: The agreement became effective June 8, 2011.

FOR FURTHER INFORMATION CONTACT:

Anna Fine, Office of Special Health Issues, Food and Drug Administration, 10903 New Hampshire Ave., Bldg. 32, rm. 5337, Silver Spring, MD 20993-0002, 301-796-8471, e-mail: Anna.Wojas@fda.hhs.gov.

SUPPLEMENTARY INFORMATION: In accordance with 21 CFR 20.108(c), which states that all written agreements and MOUs between FDA and others shall be published in the Federal Register, the Agency is publishing notice of this MOU.

Dated: July 7, 2011.
Leslie Kux,
Acting Assistant Commissioner for Policy.

BILLING CODE 4160-01-P

[FR Doc. 2011-17565 Filed 7-12-11; 8:45 am]

BILLING CODE 4160-01-C